DEPARTMENT OF ENERGY

Federal Energy Regulatory Commission

[Project No. 77-314]

Pacific Gas and Electric Company; Notice Inviting Post-Technical Conference Comments

On January 10, 2023, the Federal Energy Regulatory Commission (Commission) convened a technical conference to discuss National Marine Fisheries Service (NMFS) March 17, 2022, proposed interim protective measures for continued operation of the Potter Valley Project.¹

¹ Notice of Technical Conference, Docket No. P-77-314 (Dec. 13, 2022).

All interested persons are invited to file post-technical conference comments on issues raised during the conference that they believe would benefit from further discussion. Commenters may reference material previously filed in this docket, including the technical conference transcript, but are encouraged to avoid repetition or replication of previous material. In addition, commenters are encouraged, when possible, to provide examples and quantitative data in support of their answers. Comments must be submitted on or before 45 days from the date of this notice.

Comments may be filed electronically via the internet.² Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, MD 20852.

² See 18 CFR 385.2001(a)(1)(iii) (2021).

Comment Deadline: Monday, March 16, 2023.

For more information about this Notice, please contact: Diana Shannon (Technical Information), Office of Energy Projects, (202) 502-6136, diana.shannon@ferc.gov.

Dated: January 30, 2023.
Kimberly D. Bose,
Secretary.

[FR Doc. 2023-02299 Filed 2-2-23; 8:45 am]

BILLING CODE 6717-01-P